DEPARTMENT OF DEFENSE

Department of the Army

Corps of Engineers

Notice of Availability of a Final General Conformity Determination and Record of Decision for the Middle Harbor Redevelopment Project, Port of Long Beach, Los Angeles County, CA

AGENCY: Department of the Army—U.S. Army Corps of Engineers, DoD.

ACTION: Notice of availability.

SUMMARY: In April 2009, the U.S. Army Corps of Engineers, Los Angeles District, Regulatory Division (Corps) in coordination with the Port of Long Beach (POLB) completed and published a joint Final Environmental Impact Statement/Environmental Impact Report (EIS/EIR) for the Middle Harbor Redevelopment Project (Project) in the POLB, including a Draft General Conformity Determination, for the Federal action associated with the Project. Comments were received on the Final EIS and Draft General Conformity Determination until May 3, 2009. A General Conformity Determination was required because Project construction would require Federal action (i.e., issuance of a Corps permit for work and structures in and over navigable waters and discharges of fill into waters of the U.S.) and not all the Federal action's direct and indirect air emissions would be below specified de minimis thresholds (40 CFR 93.153(b)). On February 23, 2010, the Corps completed its environmental review and made a Final General Conformity Determination, executed the Record of Decision (ROD), and issued a Standard Individual Permit for the Federal action associated with the Project, pursuant to Section 404 of the Clean Water Act and Section 10 of the River and Harbor Act. The Corps considered and responded to all comments received in making the Final General Conformity Determination, executing the ROD, and issuing the Corps permit. The public can request copies of the Final General Conformity Determination document or the ROD from the Corps at the address listed below, or can view or download the these documents from the Corps' Web site (http://www.spl.usace.army.mil/regulatory/POLB.htm).

FOR FURTHER INFORMATION CONTACT: Questions or requests concerning the Final General Conformity Determination or the ROD should be directed to Antal Szijj, Senior Project Manager, North Coast Branch, Regulatory Division, U.S. Army Corps of Engineers, 2151 Alessandro Drive, Suite 110, Ventura, California 93001, (805) 585-2147.

SUPPLEMENTARY INFORMATION: None.

David J. Castanon,
Chief, Regulatory Division, Los Angeles District.

[FR Doc. 2010-4274 Filed 3-1-10; 8:45 am]

BILLING CODE 3720-58-P